DEPARTMENT OF TRANSPORTATION

National Highway Traffic Safety Administration

[Docket Nos. NHTSA-2001-9628 and NHTSA-2001-9630]

Re-opening of Comment Period on Whether Nonconforming 2001 Ferrari 360 and 550 Passenger Cars Are Eligible for Importation

AGENCY: National Highway Traffic Safety Administration (NHTSA), DOT.

ACTION: Re-opening of comment periods.

SUMMARY: On May 21, 2001, we published notices of receipt of petitions nos. 484 and 485 for decisions that nonconforming 2001 Ferrari 360 and 550 passenger cars are eligible for importation into the United States. These notices are contained in notice documents 01-12728 and 01-12732, which were published in the Federal Register on May 21, 2001, at 66 FR 28020 and 66 FR 28025, respectively.

The purpose of this Notice is to notify the public that NHTSA is providing additional time within which any comment may be submitted in relation to these import eligibility petitions. This re-opening of the comment periods is based on requests that NHTSA received from Fiat Auto R&D U.S.A., a division of Alfa Romeo Inc., and Ferrari North America Inc., on June 27, 2001, and June 29, 2001, respectively, which was after the comment periods' original closing date of June 20, 2001. The comment periods for 2 petition nos. 484 and 485 for import eligibility regarding nonconforming 2001 Ferrari 360 and 550 passenger cars are now re-opened until August 10, 2001.

DATES: Comments must be submitted on or before August 10, 2001.

ADDRESSES: Comments are to be submitted to: Docket Management, Room PL-401, 400 Seventh St., SW., Washington, DC 20590. (Docket hours are from 9 am to 5 pm). It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: July 23, 2001.
Marilynne Jacobs,
Director, Office of Vehicle Safety, Compliance.

[FR Doc. 01-18658 Filed 7-25-01; 8:45 am]

BILLING CODE 4910-59-P